GENERAL SERVICES ADMINISTRATION

[Notice-ME-2022-02; Docket No. 2022-0002; Sequence No. 10]

Notice of GSA Live Webinar Regarding the Federal Government's Implementation of M-21-07 “Progress in the Transition to Internet Protocol Version 6 (IPv6 Summit)”

AGENCY: Office of Government-wide Policy (OGP), General Services Administration (GSA).

ACTION: Virtual webinar meeting notice.

SUMMARY: GSA is hosting another IPv6 Summit to bring together the federal and industry communities for an engaging series of panels covering IPv6 implementation progress, opportunities, and best practices.

DATES: Thursday, June 23rd, 2022, at 1:00 p.m. Eastern Daylight Time (EDT).

ADDRESSES: This is a virtual event, and the call-in information will be made available upon registration. All attendees, including industry partners, must register for the ZoomGov event here: https://gsa.zoomgov.com/webinar/register/WN_vdbyTqyqSGq2YwZoK6CKig.

Members of the press are invited to attend but are required to register with GSA Press office (via email press@gsa.gov) by June 16th, 2022, for further information.

FOR FURTHER INFORMATION CONTACT: Lee Ellis at lee.ellis@gsa.gov or 202-501-0282.

SUPPLEMENTARY INFORMATION:

Background

The Office of Management and Budget (OMB) issued M-21-07, “Completing the Transition to Internet Protocol Version 6 (IPv6)” located at: https://www.whitehouse.gov/wp-content/uploads/2020/11/M-21-07.pdf in November 2020 to update guidance on the Federal government's operational deployment and use of IPv6. The memo communicates five categories of agency-level requirements for completing the deployment of IPv6 across all Federal information systems and services:

• Preparing for an IP6-only infrastructure

• Adhering to Federal IPv6 Acquisition Requirements

• Evolving the USGv6 Program

• Ensuring Adequate Security

• Government-wide Responsibilities

Format

The IPv6 Summit convenes leaders from the Federal Government and industry to discuss their experiences implementing IPv6. If you have questions, you would like to ask the panelists about IPv6, you can submit them via email to dccoi@gsa.gov by COB June 10, 2022.

Special Accommodations

For those who need accommodations, Zoom will have an option to turn on closed captioning. If additional accommodations are needed, please indicate this on the Zoom registration form.

Live Webinar Speakers (Subject To Change Without Notice)

Hosted by:

• Tom Santucci, Director, IT Modernization Office of Government-wide Policy Host

• Carol Bales, Senior Policy Analyst (invited) Office of Management and Budget Office of the Federal CIO

• Robert Sears, Direct, N-Wave IPv6 Task Force Chair National Oceanic and Atmosphere Administration Office of CIO

Keynote Speakers:

• Mr. John Curran, President, and Chief Executive Officer, American Registry of Internet Numbers

Agenda (Subject To Change Without Notice)
Start time | Topic
1:00 PM | Welcome and Introduction.
1:05 PM | Opening Remarks: “Implementing IPv6 for US Government”.
1:15 PM | Keynote Speaker: “World IPv6 Trends and IPv6 Address Space Dynamics”.
1:45 PM | Panel #1: Federal Government Perspective.
2:15 PM | Panel #2: Private Sector Companies use of IPv6.
2:50 PM | Agency Story #2: Department of Defense.
3:10 PM | Panel #3: IP Asset Discovery, Best Practices and Pitfalls.
3:30 PM | Panel #4: Real World Deployment, Providing Services.
3:55 PM | Panel #5: ZTA and IPv6 Technologies Brief.
3:30 PM | Closing Keynote: “Evolution of IP and World IPv6 Trends”.
3:55 PM | Conclusion Remarks.
4:00 PM | Meeting Concludes.

Lee Ellis,
IPv6 Task Force Program Manager, General Services Administration.

[FR Doc. 2022-11641 Filed 5-31-22; 8:45 am]

BILLING CODE 6820-14-P